DEPARTMENT OF COMMERCE

National Oceanic and Atmospheric Administration

Agency Information Collection Activities; Submission to the Office of Management and Budget (OMB) for Review and Approval; Comment Request; Application for Commercial Fisheries Authorization Under Section 118 of the Marine Mammal Protection Act

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on May 2, 2024 during a 60-day comment period. This notice allows for an additional 30 days for public comments.

Agency: National Oceanic and Atmospheric Administration, Commerce.

Title: Application for Commercial Fisheries Authorization under Section 118 of the Marine Mammal Protection Act.

OMB Control Number: 0648-0293.

Form Number(s): None.

Type of Request: Regular submission (extension of existing collection.)

Number of Respondents: 100.

Average Hours per Response: Initial registration 15 minutes.

Total Annual Burden Hours: 25 hours.

Needs and Uses: This is a request for an extension of a currently approved collection. Section 118 of the Marine Mammal Protection Act (MMPA) requires any commercial fisherman operating in Category I and II fisheries to register for a certificate of authorization that will allow the fisherman to take marine mammals incidental to commercial fishing operations. Category I and II fisheries are those identified by National Marine Fisheries Service (NMFS) on the MMPA List of Fisheries as having either frequent or occasional takings of marine mammals. All states have integrated the NMFS registration process into the existing state fishery registration process and vessel owners do not need to file a separate federal registration. If applicable, vessel owners will be notified of this simplified registration process when they apply for their state or Federal permit or license. A valid certificate of authorization protects the vessel owner from prosecution under the MMPA for violation of the moratorium on taking marine mammals. The information needed to register or update a commercial fishery authorization is found at 50 CFR 229.4. There are no revisions to this information collection.

Affected Public: Individuals or households; Business or other for-profit organizations.

Frequency: One time for initial registration. Then only on an as needed if vessel owners' contact or vessel information changes after initial registration.

Respondent's Obligation: Required to lawfully take marine mammals' incidental to fishing operations.

Legal Authority: 16 U.S.C. 1361 et seq.; MMPA.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0293.

Sheleen Dumas,
Department PRA Clearance Officer, Office of the Under Secretary for Economic Affairs, Commerce Department.

[FR Doc. 2024-18394 Filed 8-15-24; 8:45 am]

BILLING CODE 3510-22-P